DEPARTMENT OF ENERGY

Federal Energy Regulatory Commission

[Project Nos. 10482-014, 10481-064, and 9690-106]

AER NY-Gen, LLC; Eagle Creek Hydro Power, LLC; Eagle Creek Water Resources, LLC; Eagle Creek Land Resources, LLC; Notice of Application for Transfer of Licenses, and Soliciting Comments and Motions To Intervene

May 7, 2010.

On April 30, 2010, AER NY-Gen, LLC (transferor) and Eagle Creek Hydro Power, LLC, Eagle Creek Water Resources, LLC, and Eagle Creek Land Resources, LLC (transferees) filed an application for transfer of licenses for the Swinging Bridge Project No. 10482, the Mongaup Falls Project No. 10481, and the Rio Project No. 9690, located on the Mongaup River in Sullivan and Orange Counties, New York.

Applicants seek Commission approval to transfer the licenses for the three above projects from the transferor to the transferee.

Applicant Contact: For transferor: Mr. Joseph Klimaszewski, AER NY-Gen, LLC, 613 Plank Road, Forestburgh, New York, 12777; phone (845) 856-3920. For the transferee: Mr. Paul Ho, Eagle Creek Hydro Power, LLC, Eagle Creek Water Resources, LLC, and Eagle Creek Land Resources, LLC, 400 Frank W. Burr Boulevard, Suite 37, Teaneck, NJ 07666; phone (201) 287-4474.

FERC Contact: Robert Bell, (202) 502-6062.

Deadline for filing comments and motions to intervene: 30 days from the issuance date of this notice. Comments and motions to intervene may be filed electronically via the Internet. See 18 CFR 385.2001(a)(1)(iii)(2008) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the eLibrary link of Commission's Web site at http://www.ferc.gov/docs-filing/elibrary.asp. Enter the docket number (P-9690-106, P-10481-064, P-10482-014) in the docket number field to access the document. For assistance, call toll-free 1-866-208-3372.

Kimberly D. Bose,
Secretary.

[FR Doc. 2010-11531 Filed 5-13-10; 8:45 am]

BILLING CODE 6717-01-P